DEPARTMENT OF COMMERCE

International Trade Administration

[A-570-601]

Tapered Roller Bearings and Parts Thereof, Finished or Unfinished From The People's Republic of China: Notice of Partial Rescission of the Antidumping Duty Administrative Review

AGENCY: Import Administration, International Trade Administration, Department of Commerce.

SUMMARY: On July 1, and Sept 12, 2005, respectively, Yantai Timken Company Limited (“Yantai Timken”) and Wanxiang Group Company (“Wanxiang”) withdrew their requests for administrative review. Accordingly, because no other party requested a review for either company, we are rescinding, in accordance with 19 CFR 351.213(d)(1), the administrative review of sales of tapered roller bearings and parts thereof, finished or unfinished (“TRBs”) from The People's Republic of China (“PRC”) for the period covering June 1, 2004 through May 31, 2005, for Yantai Timken and Wanxiang.

EFFECTIVE DATE: October 26, 2005.

FOR FURTHER INFORMATION CONTACT: Laurel LaCivita or Hua Lu, AD/CVD Operations, Office 8, Import Administration, International Trade Administration, U.S. Department of Commerce, 14th Street and Constitution Avenue, NW, Washington, DC 20230; telephone: (202) 482-4243 and (202) 482-6478, respectively.

SUPPLEMENTARY INFORMATION:

Background

On June 15, 1987, the Department published in the Federal Register the antidumping duty order on TRBs from PRC. See Antidumping Duty Order: Tapered Roller Bearings and Parts Thereof, Finished or Unfinished, From the People's Republic of China, 52 FR 22667 (June 15, 1987). On June 1, 2005, the Department published a notice of opportunity to request an administrative review of the antidumping duty order on TRBs from the PRC for the period June 1, 2004, through May 31, 2005. See Antidumping or Countervailing Duty Order, Finding, or Suspended Investigation: Opportunity to Request Administrative Review, 70 FR 31422 (June 1, 2005). On June 30, 2005, Yantai Timken and Wanxiang requested administrative reviews of their sales to the United States during the period of review (“POR”). No other party requested an administrative review of Yantai Timken or Wanxiang for this time period. On July 21, 2005, the Department published in the Federal Register a notice of the initiation of the antidumping duty administrative review of TRBs from the PRC for the 2004-2005 POR. See Initiation of Antidumping and Countervailing Duty Administrative Reviews and Request for Revocation in Part, 70 FR 30694 (May 27, 2005) (“Initiation Notice”).¹ Wanxiang withdrew its request for review on July 1, 2005 and on September 12, 2005, Yantai Timken withdrew its request for review.

¹ The initiation notice inadvertently failed to include Wanxiang in the list of companies covered by the review. On August 29, 2005, the Department issued an amendment to its July 21, 2005, Initiation Notice, including Wanxiang in the 2004-2005 review. See Initiation of Antidumping and Countervailing Duty Administrative Reviews and Requests for Revocation in Part, 70 FR 51009, 51010 (August 29, 2005).

Partial Rescission of Review

Pursuant to 19 CFR 351.213(d)(1), the Department will rescind an administrative review, in whole or in part, if a party that requested a review withdraws the request within 90 days of the date of publication of notice of initiation of requested review. Yantai Timken and Wanxiang withdrew their respective requests for review within the 90-day time limit and no other party requested a review with respect to either Yantai Timken or Wanxiang. Accordingly, we are rescinding this administrative review of the sales in the United States made by Yantai Timken and Wanxiang and will issue appropriate assessment instructions to U.S. Customs and Border Protection.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

This notice is in accordance with section 777(i)(1) of the Tariff Act of 1930, as amended, and 19 CFR 351.213(d)(4) of the Department's regulations.

Dated: October 20, 2005.
Gary Taverman,
Acting Deputy Assistant Secretary for Import Administration.

[FR Doc. E5-5950 Filed 10-25-05; 8:45 am]

BILLING CODE 3510-DS-S